DEPARTMENT OF ENERGY

Federal Energy Regulatory Commission

[Docket No. CP25-29-000]

Eastern Gas Transmission and Storage, Inc.; Notice of Schedule for the Preparation of an Environmental Assessment for the Capital Area Project

On December 11, 2024, Eastern Gas Transmission and Storage, Inc. (EGTS), filed an application in Docket No. CP25-29-000 requesting an authorization pursuant to section 7(c) of the Natural Gas Act and the regulations under part 157 of the Federal Energy Regulatory Commission (Commission) to construct, operate and maintain certain interstate natural gas pipeline facilities located in Clinton, Centre and Franklin Counties, Pennsylvania; and Loudoun County, Virginia. The proposed project is known as the Capital Area Project (Project) and would enable EGTS to deliver an additional 67,500 dekatherms per day of natural gas from an existing upstream pipeline interconnect in Clinton County, Pennsylvania, for delivery to local natural gas utilities in Frederick County, Maryland, and Loudoun County, Virginia.

On December 23, 2024, the Commission issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1741616931.

Schedule for Environmental Review

Issuance of EA—August 8, 2025

90-day Federal Authorization Decision Deadline ²—November 6, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Project would increase natural gas capacity on EGTS' existing PL-1 pipeline system through the addition of compression and facility modifications at its existing Finnefrock, Centre, and Chambersburg Compressor Stations in Pennsylvania and Leesburg Compressor Station in Virginia. Specifically, the Project would add one 6,130 horsepower (hp) gas-fired turbine compressor unit and ancillary facilities at Centre Compressor Station in Centre County, Pennsylvania; add one 11,110 hp gas-fired turbine compressor unit and ancillary facilities at Chambersburg Compressor Station in Franklin County, Pennsylvania; add one 5,000 hp electric-driven compressor unit and ancillary facilities at Leesburg Compressor Station in Loudoun County, Virginia; and replace gas coolers and headers and cold recycle piping, and install new check valves, at Finnefrock Compressor Station in Clinton County, Pennsylvania.

Background

On February 4, 2025, the Commission issued a “Notice of Scoping Period Requesting Comments on Environmental Issues for the Proposed Capital Area Project” (Notice of Scoping). The Notice of Scoping was sent to affected landowners; Federal, State, and local government agencies; elected officials; environmental and public interest groups; Native American tribes; other interested parties; and local libraries and newspapers.

In response to the Notice of Scoping, the Commission received 27 comments. Twenty of these comments were in favor of the Project emphasizing its critical importance in meeting the growing energy needs of residents and business in Pennsylvania, Maryland and Virginia. The Virginia Department of Environmental Quality suggested that that consideration should be given for the possibility of preparing an Environmental Impact Statement (EIS) for this Project, since it requires more stringent public participation requirements than an EA. Piedmont Environmental Council and the Chesapeake Bay Foundation also requested that a full EIS be completed. The Virginia Department of Wildlife Resources searched its Biotics Data System and confirmed that no natural heritage resources have been documented within the Project boundary including a 100-foot buffer. One landowner near the Leesburg Compressor Station noted air quality concerns with the station and the proposed expansion. The Loudoun County Office of Emergency Management suggested that EGTS conduct a community meeting for nearby residents.

All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-29-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 12, 2025.
Debbie-Anne A. Reese,
Secretary.

[FR Doc. 2025-04480 Filed 3-18-25; 8:45 am]

BILLING CODE 6717-01-P